ENVIRONMENTAL PROTECTION AGENCY

[EPA-HQ-OPPT-2017-0713; FRL-9972-08]

Certain New Chemical Substances; Receipt and Status Information for November 2017

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from November 1, 2017 to November 30, 2017.

DATES: Comments identified by the specific case number provided in this document must be received on or before June 21, 2018.

ADDRESSES: Submit your comments, identified by docket identification (ID) number EPA-HQ-OPPT-2017-0713, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from November 1, 2017 to November 30, 2017. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the 49 PMN/SNUN/MCANs received by EPA during this period, Table I provides the following information (to the extent that such information is not subject to a CBI claim) on the notices received by EPA during this period: The EPA case number assigned to the notice, a notation of whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number and the version column will note “Initial”. Submissions which are amendments to previous submissions will have a case number followed by the letter “A” (e.g. P-18-1234A). The version column designates amendments in sequence as “1”, “2”, “3”, etc.

Table I—PMN/SNUN/MCANs Received From 11/1/2017 to 11/30/2017
Case No. | Submission document type | Version | Received date | Manufacturer | Use | Chemical substance
P-16-0531A | Amendment | 2 | 11/17/17 | Clariant Corporation | (G) Additive for use in mineral processing | (G) Alkyloxy propanamine.
P-17-0003A | Amendment | 7 | 11/01/17 | CBI | (G) Printing ink applications | (G) Styrene(ated) copolymer with alkyl(meth)acrylate, and (meth)acrylic acid.
P-17-0152A | Amendment | 7 | 11/16/17 | CBI | (G) Additive in home care products | (G) Poly-(2-methyl-1-oxo-2-propen-1-yl) ester with ethanaminium, N,N,N-trialkyl, chloride and methoxypoly(oxy-1,2-ethanediyl).
P-17-0153A | Amendment | 3 | 11/17/17 | Clariant Corporation | (S) Neutralizing agent for paints and coatings | (S) D-Glucitol, 1-deoxy-1-(dimethylamino)-.
P-17-0195A | Amendment | 4 | 11/28/17 | CBI | (G) For manufacturing modified Ethylene vinyl alcohol copolymer | (G) 1,3-Propanediol,2-methylene-, substituted,
P-17-0214A | Amendment | 2 | 11/16/17 | Clariant Corporation | (S) Pour point depressant for use in petroleum products | (G) 2-Propenoic acid, polymer with alkene and alkenyl acetate, alkyl 2-alkyl isoalkyl esters.
P-17-0215A | Amendment | 2 | 11/25/17 | Clariant Corporation | (S) Lubricant for use in metal working fluids | (G) Copolymer of alpha-olefin and dibutyl maleate.
P-17-0283A | Amendment | 6 | 11/21/17 | CBI | (G) Lubricating oil additive for automotive engine oils | (G) Arenesulfonic acid, alkyl derivatives, metal salts.
P-17-0336A | Amendment | 5 | 11/14/17 | CBI | (S) Cathode material for lithium ion batteries | (S) Aluminum cobalt lithium nickel oxide.
P-17-0337A | Amendment | 5 | 11/14/17 | CBI | (S) Cathode material for lithium ion batteries | (S) Aluminum boron cobalt lithium nickel oxide.
P-17-0338A | Amendment | 5 | 11/14/17 | CBI | (S) Cathode material for lithium ion batteries | (S) Aluminum boron cobalt lithium magnesium nickel oxide.
P-17-0346A | Amendment | 3 | 11/13/17 | CBI | (G) Destructive use | (G) Triarylalkyl phosphonium halide salt.
P-17-0375A | Amendment | 2 | 11/30/17 | Asahi Kasei America, Inc | (G) Paint additive | (G) 2-Oxepanone, polymer with diisocyanatohexane, alkyl-((hydroxyalkyl)-alkanediol and isocyanato-(isocyanatoalkyl)-trialkylcyclohexane, di-alkyl malonate- and polyalkylene glycol mono-Me ether-blocked, reaction products with (methylalkyl)-propanamine.
P-17-0396A | Amendment | 3 | 11/02/17 | CBI | (S) Intermediate for a polyurethane catalyst | (G) Aminoalkylated imidazole.
P-18-0001A | Amendment | 6 | 11/10/17 | Nexus Fuels | (G) Additive | (G) Carbon compound derived from plastic depolymerization.
P-18-0003A | Amendment | 4 | 11/30/17 | CBI | (S) Lubricant for metal working applications | (G) Fatty acids, diesters with dihydroxyalkane, Fatty acids, esters with dihydroxyalkane.
P-18-0009A | Amendment | 2 | 11/07/17 | CBI | (G) Lubricant additive | (G) Phosphonic acid, dimethyl ester, polymer with alkyl diols.
P-18-0013A | Amendment | 2 | 11/02/17 | Shin-Etsu Microsi | (G) Microlithography for electronic device manufacturing | (G) Substituted-triphenylsulfonium, inner salt.
P-18-0014A | Amendment | 2 | 11/02/17 | Shin-Etsu Microsi | (G) Microlithography for electronic device manufacturing | (G) Sulfonium, triphenyl-, salt with disubstituted-heterocyclic compound (1:1).
P-18-0016A | Amendment | 2 | 11/21/17 | CBI | (G) Additives used in Semiconductor chip manufacturing | (G) Aromatic sulfonium tricyclo fluoroalkyl sulfonic acid salt.
P-18-0024A | Amendment | 2 | 11/15/17 | CBI | (S) Epoxy hardner/curative | (G) Substituted cashew, nutshell liquid, polymer with epichlorohydrin, phosphate.
P-18-0031A | Amendment | 3 | 11/06/17 | CBI | (G) Ingredient for industrial coating | (G) Substituted dicarboxylic acid, polymer with various alkanediols.
P-18-0035A | Amendment | 2 | 11/01/17 | Evonik Corporation | (G) Monomer for polymer applications | (G) Methacrylic acid heterocyclic alkyl ester, methacrylic acid heterocyclic alkyl ester.
P-18-0038A | Amendment | 3 | 11/04/17 | Highland Logistics LLC | (S) Solution polymer incorporating catalyst monomer for generation of singlet oxygen | (G) Acrylic acid, copolymer with itaconic acid, alkenyloxyethoxylate, hydroxyalkyl methacrylate. alkyl alkenyylocyethoxylate ammonium sulfate salt and polyhalovinylbenzyloxoxanthen sodium salt benzoate.
P-18-0039A | Amendment | 3 | 11/14/17 | CBI | (G) Curing agent | (G) 2-propenenitrile, reaction products with cycloaliphatic diamine, araliphatic diamine, bisphenol A-epichlorohydrin-polyethylene glycol polymer and N-alkyl substituted alkyl. amine.
P-18-0040 | Initial submission | 1 | 11/06/17 | Allnex USA Inc | (S) Binder for ultra violet (UV) curable coating resin | (G) Alkanedioic acid, polymers with alkanoic acid-dipentaerythritol reaction products, substituted alkanedioc acid, substituted alkanoic acid, isocyanato-(isocyanatoalkyl)-alkyl substituted carbomoncycle and alkyl substituted alkanediol.
P-18-0041 | Initial submission | 1 | 11/06/17 | CBI | (G) Intermediate polyol for further reaction | (S) 2,5-furandione, polymer with 2-ethyl-2-(hydroxymethyl)-1,3-propanediol, 3a,4,5,6,7,7a-hexahydro-4,7-methano-1H-inden-5(or 6)-yl ester, ester with 2,3-dihydroxypropyl neodecanoate.
P-18-0042 | Initial submission | 1 | 11/06/17 | CBI | (G) Industrial coating | (S) 2,5-furandione, polymer with 2-ethyl-2-(hydroxymethyl)-1,3-propanediol, 3a,4,5,6,7,7a-hexahydro-4,7-methano-1H-inden-5(or 6)-yl ester, ester with 2,3-dihydroxypropyl neodecanoate, polymer with 5-isocyanato-1-(isocyanatomethyl)-1,3,3-trimethylcyclohexane, 2-hydroxyethyl acrylate- and 2-hydroxyethyl methacrylate-blocked.
P-18-0042A | Amendment | 2 | 11/12/17 | CBI | (G) Industrial coating | (S) 2,5-furandione, polymer with 2-ethyl-2-(hydroxymethyl)-1,3-propanediol, 3a,4,5,6,7,7a-hexahydro-4,7-methano-1H-inden-5(or 6)-yl ester, ester with 2,3-dihydroxypropyl neodecanoate, polymer with 5-isocyanato-1-(isocyanatomethyl)-1,3,3-trimethylcyclohexane, 2-hydroxyethyl acrylate- and 2-hydroxyethyl methacrylate-blocked.
P-18-0043 | Initial submission | 1 | 11/07/17 | Evonik Corporation | (S) As plasticizer or fast fuser in PVC-plastisols; for flooring, wall paper, coated fabrics, underbodycoating (S) Use as a laboratory agent (S) Use in formulation or re-packing (S) Additives for flexibilization of paints and lacquers (S) As processing aid or fast fuser in PVC dry blends; for flooring, coated fabrics films sheets tubes hoses | (S) 1,4-benzenedicarboxylic acid, 1,4-dipentyl ester, branched and linear.
P-18-0044 | Initial submission | 1 | 11/07/17 | CBI | (G) Intermediate species | (G) Fatty acids.
P-18-0045 | Initial submission | 1 | 11/07/17 | CBI | (G) Application coating | (G) Fatty acids, alkyl esters.
P-18-0046 | Initial submission | 2 | 11/14/17 | Allnex USA Inc | (S) UV curable coating resin | (G) Substituted carbomonocycle, polymer with diisocyanatoalkane, substituted alkylacrylate-blocked.
P-18-0047 | Initial submission | 2 | 11/09/17 | CBI | (S) EGDB will be a safety enhancing stabilizer for peroxides as well as a replacement for a more hazardous phthalate in current market products (S) Used for the curing of unsaturated polyester resins and methacrylic resins mainly in the temperature range of 60°C and higher | (S) 1,2-ethanediol, 1,2-dibenzoate.
P-18-0048 | Initial submission | 1 | 11/13/17 | Colonial Chemical, Inc | (S) Metal working | (S) Acetic acid, 2-(2-butoxyethoxy)-.
P-18-0049 | Initial submission | 1 | 11/16/17 | Solvay Fluorides LLC | (G) Coating component/processing aid | (G) Mixed metal halide.
P-18-0050 | Initial submission | 1 | 11/16/17 | CBI | (G) Raw material in industrial coatings | (G) Alkane, diisocyanato-, homopolymer, alkyl dihydrogen phosphate- and polyalkylene glycol mono-alkyl ether-.
P-18-0051 | Initial submission | 2 | 11/21/17 | Allnex USA Inc. | (S) Waterborne UV curable coating resin binder for inkjet, ink or overprint varnish | (G) Alkenoic acid, reaction products with [oxybis(alkylene)]bis[(substituted alkyl)-alkanediol], polymers with isocyanatoalkane and substituted alkanoic acid, substituted monoacrylate alkanoate-blocked.
P-18-0052 | Initial submission | 1 | 11/20/17 | Shin Etsu Silicones of America | (G) Coating agent | (G) Perfluoroalkylethyl- and vinyl-modified organopolysiloxane.
P-18-0053 | Initial submission | 1 | 11/20/17 | Shin Etsu Silicones of America | (G) Coating agent | (G) Perfluoroalkylethyl- and vinyl-modified organopolysiloxane.
P-18-0054 | Initial submission | 1 | 11/20/17 | CBI | (G) Paint | (G) 2-alkenoic acid, 2-alkyl-, 2-alkyl ester, polymer with alkyl 2-alkenoate, 2-substitutedalkyl 2-alkenoate and 2-substitutedalkyl 2-alkyl-2-alkenoate, esters with carboxylic acids, tert alkylperoxoate initiated.
P-18-0055 | Initial submission | 1 | 11/22/17 | CBI | (G) Catalyst | (G) Mixed metal oxide.
P-18-0056 | Initial submission | 2 | 11/29/17 | CBI | (S) Drier for paints and coatings | (S) Cobalt neodecanoate propionate complex.
P-18-0056A | Amendment | 3 | 11/30/17 | CBI | (S) Drier for paints and coatings | (S) Cobalt neodecanoate propionate complex.
P-18-0059 | Initial submission | 1 | 11/30/17 | EASTMAN Chemical Company, Inc | (S) Chemical intermediate | (S) Butanoic acid, 4-(dimethylamino)-, ethyl ester.
P-18-0060 | Initial submission | 1 | 11/30/17 | EASTMAN Chemical Company, Inc | (S) Surfactant for liquid dish, liquid laundry and industrial hand wash; FDA related uses; export only volume of the TSCA manufactured NCS | (S) 1-Butanaminium, 4-amino-N-(2-hydroxy-3-sulfopropyl)-N, N-dimethyl-4-oxo-, N-coco alkyl derivs., inner salts.
P-18-0061 | Initial submission | 2 | 11/30/17 | CBI | (G) Industrial coating hardners | (G) Alkyl methacrylates, polymer with alkyl acrylates, styrene hydroxyalkyl acrylates, novalac epoxy and epoxy modified acrylic.
SN-17-0014A | Amendment | 2 | 11/02/17 | CBI | (G) Oilfield additive | (S) Oxazolidine, 3,3'-methylenebis[5-methyl-.
SN-18-0001 | Initial submission | 2 | 11/29/17 | CBI | (S) Solution based (<1% concentration) oxidation catalyst for the composite market (fiber glass: insulation, filtration media, reinforcements, optical fibers) (oxidation catalyst for composite industry (e.g., for application to gelcoat-type finished goods such as boats, bowling balls, shower stalls and bathtubs, etc.) | (G) Alkyl-dihydroxy-methyl pyridin-carboxylate Iron chloride complex.

In Table II. of this unit, EPA provides the following information (to the extent that such information is not subject to a CBI claim) on the TMEs and/or Biotech Exemptions received by EPA during this period: The EPA case number assigned to the TME and/or Biotech Exemption, the submission document type (initial or amended), the version number, the date the TME and/or Biotech Exemption was received by EPA, the submitting manufacturer (i.e., domestic producer or importer), the potential uses identified by the manufacturer in the TME and/or Biotech Exemption, and the chemical substance identity.

Table II—TMEs and Biotech Exemptions Received From 11/1/2017 to 11/30/2017
Case No. | Submission document type | Version | Received date | Manufacturer | Use | Chemical substance
T-18-0001 | Initial submission | 1 | 11/16/17 | CBI | (S) Component in automotive gasoline/transportation fuel for consumer use. | (G) Renewable naptha.
H-18-0001A | Amendment | 2 | 11/06/17 | CBI | (G) Production of Chemical | (G) Modified transgenic microorganism.

In Table III. of this unit, EPA provides the following information (to the extent that such information is not claimed as CBI) on the NOCs received by EPA during this period: The EPA case number assigned to the NOC, the submission document type (initial or amended), the date the NOC was received by EPA, the date of commencement provided by the submitter in the NOC, a notation of the type of amendment (e.g., amendment to generic name, specific name, technical contact information, etc.) and chemical substance identity.

Table III— NOCs Received From 11/1/2017 to 11/30/2017
Case No. | Submission document type | Received date | Commencement date | If amendment, type of amendment | Chemical substance
P-05-0834 | Initial submission | 11/15/17 | 8/1/2006 |  | (S) 1,3-benzenedicarboxylic acid, polymer with 1,4-butanediol, hexanedioic acid, 1,6-hexanediol, hydrazine, 5-isocyanato-1-(isocyanatomethyl)-1,3,3-trimethylcyclohexane and 1,1′-methylenebis[4-isocyanatocyclohexane], polyethylene glycol mono-me ether-blocked, amine-terminated.
P-06-0039 | Initial submission | 11/15/17 | 9/28/2006 |  | (S) Propanoic acid, 3-hydroxy-2-(hydroxymethyl)-2-methyl-, polymers with hydrazine, 2-hydroxymethylethyl-terminated polybutadiene, 5-isocyanato-1-(isocyanatomethyl)-1,3,3-trimethylcyclohexane and polypropylene glycol, compounds with triethylamine.
P-06-0306 | Initial submission | 11/15/17 | 6/15/2006 |  | (S) 1,3-benzenedicarboxylic acid, polymer with 1,2-ethanediamine, hexanedioic acid, 1,6-hexanediol, hydrazine and 1,1′-methylenebis[4-isocyanatocyclohexane], polyethylene glycol mono-me ether-blocked.
P-07-0022 | Initial submission | 11/15/17 | 1/11/2007 |  | (S) 1,3-propanediol, 2-ethyl-2-(hydroxymethyl)-, polymer with hydrazine, alpha-hydro-omega-hydroxypoly(oxy-1,4-butanediyl) and 1,1′-methylenebis[4-isocyanatocyclohexane], polyethylene glycol mono-me ether-blocked.
P-11-0266 | Initial submission | 11/14/17 | 10/2/2017 |  | (G) Polypentaerythritol, mixed esters with straight and branched monoacids.
P-14-0729 | Initial submission | 11/27/17 | 11/21/2014 |  | (G) 'buta-1,3-diene reaction product with alkyl nitrile, alkyl benzene and alkyl acrylic acid'.
P-16-0095 | Amendment | 11/17/17 | 10/19/2017 | Specific Name | (G) Phenol-formaldehyde resin.
P-16-0236 | Initial submission | 11/02/17 | 10/18/2017 |  | (S) Imidazo[4,5-d]imidazole-2,5(1h,3h)-dione, tetrahydro-1,3,4,6-tetrakis(methoxymethyl)-, polymer with alpha-hydro-omega-hydroxypoly(oxy-1,2-ethanediyl), reaction product with polyethylene glycol mono[2,4,6-tris(1-phenylethyl)phenyl] ether.
P-16-0359 | Initial submission | 11/09/17 | 11/9/2017 |  | (G) Carbopolycycle-bis(diazonium), dihalo-, chloride (1:2), reaction products with metal hydroxide, 4-[(dioxoalkyl)amino]substituted benzene, 2-[(dioxoalkyl)amino]substituted benzene, 5-[(dioxoalkyl)amino]-2-hydroxy-substituted benzene and oxo-N-phenylalkanamide,.
P-16-0407 | Initial submission | 11/02/17 | 10/13/2017 |  | (G) Functionalized polyimide and functionalized polyamide.
P-16-0576 | Initial submission | 11/10/17 | 11/07/2017 |  | (G) Modified alkyl polyamine.
P-16-0577 | Initial submission | 11/10/17 | 11/09/2017 |  | (G) Alkyl polyamine.
P-17-0301A | Amendment | 11/27/17 | 6/01/2017 | Contact Information | (G) Manganese bypyridine carboxylate complex.
P-96-0272 | Initial submission | 11/15/17 | 3/26/1996 |  | (S) 2,5-furandione, dihydro-, polymer with 1,2-ethanediol, 1,1′-methylenebis[4-isocyanatobenzene] and 2,2′-oxybis[ethanol].

In Table IV of this unit, EPA provides the following information (to the extent such information is not subject to a CBI claim) on the test information received by EPA during this time period: The EPA case number assigned to the test information; the date the test information was received by EPA, the type of test information submitted, and chemical substance identity.

Table IV—Test Information Received from 11/1/2017 to 11/30/2017
Case No. | Received date | Type of test information | Chemical substance
P-10-0470 | 11/20/17 | Analytical data summary of impurities of interest | (G) Fluoro modified, polyether modified and alkyl modified polymethylsiloxane.
P-10-0471 | 11/20/2017 | Analytical data summary of impurities of interest | (G) Fluoro modified polyether modified polyacrylate.
P-10-0472 | 11/20/2017 | Analytical data summary of impurities of interest | (G) Fluoro modified polyether modified polyacrylate.
P-11-0063 | 11/3/2017 | Aerobic Transformation in Soil (OECD 307) | (G) Perfluoroalkyl acrylate copolymer.
P-13-0930 | 11/1/2017 | (1) Short-Term Reproduction Assay with Fathead Minnow (Pimephales promelas) (OECD 229) (2) Amphibian Metamorphosis Assay with African Clawed Frog (Xenopus laevis) (OECD 231) | (G) Substituted phenol.
P-14-0323 | 11/6/2017 | (1) A 2-Week Study of P-14-0323 by Whole-Body Inhalation in Sprague Dawley Rats (OCED 412) (2) A 2-Week Study of P-14-0323 by Whole-Body Inhalation in Albino Rabbits (OCED 412). | (G) Hydrochlorofluoropropene.
P-15-0121 | 11/13/2017 | Daphia 48 hr Acute Immobilization Test (OCSPP 850.1010 ) | (S) Formaldehyde, polymer with 2-aminocyclopentanemethanamine, 1,4-butanediamine, 1,2-cyclohexanediamine, 1,6- hexanediamine, hexahydro-1H-azepine and 2-methyl-1,5,-pentanediamine.
P-16-0393 | 11/9/2017 | (1) Single Cell Gel Electrophoresis (Comet) (2) Assay in the Male Rat: in vivo(OECD 489) (3) (3) V79 HPRT Gene Mutation Assay (OECD 476) | (G) Di-substituted benzenedicarboxylic acid ester.
P-16-0393 | 11/9/2017 | Toxicity to Activated Sludge in a Respiration Inhibition Test (OECD 209) | (G) Di-substituted benzenedicarboxylic acid ester.
P-16-0393 | 11/9/2017 | (1) Determination of Density (OECD 109) (2) Determination of Adsorption Coefficient (OECD 121) (3) Acute Dermal Toxicity (Limit Test) in the rat (4) Preliminary Toxicity Study by Oral Gavage Adminstration to Han Wistar Rats for 2 Weeks | (G) Di-substituted benzenedicarboxylic acid ester.
P-16-0393 | 11/9/2017 | Extraction Data | (G) Di-substituted benzenedicarboxylic acid ester.
P-16-0393 | 11/9/2017 | (1) Acute Toxicity Test to Earthworm (2) Daphnia sp., Reproduction Test (OECD 211) (3) Juvenile Growth Test of CBI (OECD 215) (4) Seed Germination/Root Elongation Toxicity of CBI (5) Inherent Biodegradation Test of CBI | (G) Di-substituted benzenedicarboxylic acid ester.
P-16-0543 | 11/27/2017 | Industrial Hygiene Exposure Assessment Report | (G) Halogenophosphoric acid metal salt.
P-17-0153 | 11/17/2017 | Dose Range Finding Study for Reproduction/Developmental Toxicity Screening Test of Genamin DMG By Oral Gavage in Sprague Dawley Rats | (S) D-Glucitol, 1-deoxy-1-(dimethylamino)-.
P-17-0187 | 11/2/2017 | Surface Tension Data | (G) Polymer with benzoic acid tetra halogen hydroxy tetrahalogen oxo H xanthenyl alkenylaryl alkyl ester alkalai metal salt, butyl-2-propenoate, ethenyl neodecanoate, methyl-2-methyl-2- propenoate and 2-methyl-2-propenoic acid.
P-17-0218 | 11/8/2017 | Local Lymph Node Assay in Mice (OECD 429) | (S) Bicyclo[2.2.1]heptane-1-methanesulfonic acid, 7,7-dimethyl-2-oxo-, compd. with N,N-diethylethanamine (1:1).
P-17-0252 | 11/2/2017 | Particle Abatement System | (S) 1H,3H-Naphtho[1,8-cd]pyran-1,3-dione, 5-Nitro.
P-17-0380 | 11/27/2017 | Water Extractability in pH 2 buffer study | (G) Amine- and hydroxy-functional acrylic polymer.
P-17-0380 | 11/27/2017 | Growth Inhibition Test with the Unicellular Green Alga, Pseudokirchneriella subcapitata (OECD 201) | (G) Amine- and hydroxy-functional acrylic polymer.
SN-15-0009 | 11/30/2017 | Determination of effects in sediment on emergence of the midge, Chironomus riparius (OECD 218) | (G) Fatty Acid amide.

If you are interested in information that is not included in these tables, you may contact EPA's technical information contact or general information contact as described under FOR FURTHER INFORMATION CONTACT to access additional non-CBI information that may be available.

Authority: 15 U.S.C. 2601 et seq.

Dated: May 4, 2018.
Pamela Myrick,
Director, Information Management Division, Office of Pollution Prevention and Toxics.

[FR Doc. 2018-10789 Filed 5-21-18; 8:45 am]

BILLING CODE 6560-50-P